DEPARTMENT OF JUSTICE

Antitrust Division

Notice Pursuant to the National Cooperative Research and Production Act of 1993—Institute of Electrical and Electronics Engineers

Notice is hereby given that, on December 28, 2009, pursuant to Section 6(a) of the National Cooperative Research and Production Act of 1993, 15 U.S.C. 4301 et seq. (“the Act”), the Institute of Electrical and Electronics Engineers (“IEEE”) has filed written notifications simultaneously with the Attorney General and the Federal Trade Commission disclosing additions or changes to its standards development activities. The notifications were filed for the purpose of extending the Act's provisions limiting the recovery of antitrust plaintiffs to actual damages under specified circumstances. Specifically, 22 new standards have been initiated and seven existing standards are being revised. More detail regarding these changes can be found at http://standards.ieee.org/standardswire/sba/09-11-09.html.

On September 17, 2004, IEEE filed its original notification pursuant to Section 6(a) of the Act. The Department of Justice published a notice in the Federal Register pursuant to Section 6(b) of the Act on November 3, 2004 (69 FR 64105).

The last notification was filed with the Department on July 6, 2009. A notice was published in the Federal Register pursuant to Section 6(b) of the Act on August 3, 2009 (74 FR 38473).

Patricia A. Brink,
Deputy Director of Operations, Antitrust Division.

[FR Doc. 2010-639 Filed 1-15-10; 8:45 am]

BILLING CODE 4410-11-M